DEPARTMENT OF HEALTH AND HUMAN SERVICES

National Institutes of Health

National Heart, Lung, and Blood Institute; Amended Notice of Meeting

Notice is hereby given of a change in the meeting of the National Heart, Lung, and Blood Institute Special Emphasis Panel, July 18, 2007, 8 a.m. to July 18, 2007, 6 p.m., Hilton Crystal City, 2399 Jefferson Davis Hwy., Arlington, VA 22202 which was published in the Federal Register on June 15, 2007, FR 07-2972.

The meeting location was changed from Hilton Crystal City to State Plaza Hotel, Washington, DC. The rest of the information remains the same. The meeting is closed to the public.

Dated: June 20, 2007.
Jennifer Spaeth,
Director, Office of Federal Advisory Committee Policy.

[FR Doc. 07-3118 Filed 6-25-07; 8:45 am]

BILLING CODE 4140-01-M